ENVIRONMENTAL PROTECTION AGENCY

[EPA-HQ-OW-2006-0826; FRL-8256-1]

Notice of Availability of Draft Nutrient Criteria Technical Guidance Manual: Wetlands

AGENCY: Environmental Protection Agency (EPA).

ACTION: Notice of Availability.

SUMMARY: EPA announces the availability of a draft nutrient criteria technical guidance manual for wetlands. This document provides State and Tribal water quality managers and others with information on how to develop numeric nutrient criteria for wetlands as State or tribal law or regulation; however, the document does not contain site-specific numeric nutrient criteria. EPA is soliciting information, data, and views on issues of science pertaining to the information the Agency used to develop this document. While this document contains EPA's scientific recommendations regarding defensible approaches for developing regional nutrient criteria, this guidance does not substitute for Clean Water Act (CWA) or EPA regulations, nor is it a regulation. It does not impose legally binding requirements on the EPA, States, territories, authorized tribes, or the regulated community. State and tribal decision makers have discretion to adopt water quality standards that use approaches that differ from EPA's recommendations.

DATES: Scientific views, data, and information should be submitted by February 12, 2007.

ADDRESSES: You may submit scientific information, data, or views, identified by Docket ID No. EPA-HQ-OW-2006-0826, by one of the following methods:

• http://www.regulations.gov: Follow the on-line instructions for submitting information.

• E-mail: ow-docket@epa.gov.

• Mail: Water Docket, Environmental Protection Agency, Mail code: 4101T, 1200 Pennsylvania Ave., NW., Washington, DC 20460. Please include a total of four copies.

• Hand Delivery: EPA Docket Center (EPA/DC), EPA West, Room 3334, 1301 Constitution Ave., NW., Washington, DC 20460. Please include a total of four copies. Such deliveries are only accepted during the Docket's normal hours of operation, and special arrangements should be made for deliveries of boxed information.

Instructions: Direct your scientific information, data, or views, to Docket ID No. EPA-HQ-OW-2006-0826. EPA's policy is that all information received will be included in the public docket without change and may be made available online at www.regulations.gov, including any personal information provided, unless it includes information claimed to be Confidential Business Information (CBI) or other information whose disclosure is restricted by statute. Do not submit information that you consider to be CBI or otherwise protected through www.regulations.gov or ow-docket@epa.gov. The www.regulations.gov Web site is an “anonymous access” system, which means EPA will not know your identity or contact information unless you provide it in the body of your information. If you send an e-mail directly to EPA without going through www.regulations gov your e-mail address will be automatically captured and included as part of the information that is placed in the public docket and made available on the Internet. If you submit information electronically, EPA recommends that you include your name and other contact information in the body of your information and with any disk or CD-ROM you submit. If EPA cannot read your information due to technical difficulties and cannot contact you for clarification, EPA may not be able to consider your information. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., information claimed to be CBI or other information whose disclosure is restricted by statute. Certain other material, such as copyrighted material, will be publicly available only in hard copy. Publicly available docket materials are available either electronically in www.regulations.gov or in hard copy at the Water Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Dr. Amy Parker, Health and Ecological Criteria Division (4304T), U.S. EPA, 1200 Pennsylvania Ave., NW., Washington, DC 20460; phone (202) 566-1341; fax (202) 566-1139; e-mail parker.amy@epa.gov.

SUPPLEMENTARY INFORMATION:

I. General Information

A. Does This Action Apply to Me?

Entities potentially interested in today's notice are those that discharge or release nitrogen and phosphorus to surface waters, and Federal, State, tribal, and local authorities that establish water quality standards for surface water. Categories and entities interested in today's notice include but are not limited to:

Category | Examples of potentially affected entities
State/Local/Tribal Government | States, municipalities, tribes.
Industry | Fertilizer manufacturers.
Agriculture | Animal feeding operations, fertilized row crop operations.

This table is not intended to be exhaustive. Other types of entities not listed in the table may also be interested.

B. What Should I Consider as I Prepare My Scientific Information, Data or Views for EPA?

1. Submitting CBI. Do not submit CBI information to EPA through www.regulations.gov or e-mail. Clearly identify the specific information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Information, Data, or Views. When submitting scientific information, data or views, please remember to:

• Identify the docket number and other identifying information (subject heading, Federal Register date and page number).

• Explain why you agree or disagree; suggest alternati ves and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• Make sure to submit your information comments by the deadline identified.

C. How Can I Get Copies of the Draft Document and Related Information?

Copies of the complete document entitled Nutrient Criteria Technical Guidance Manual: Wetlands (EPA-823-B-05-003) may be obtained from EPA's National Service Center for Environmental Publications (NSCEP) by phone at (513) 489-8190 or toll free (800) 490-9198, or by e-mail to ncepiwo@one.net, or by conventional mail to 11029 Kenwood Road, Cincinnati, OH 45242. You can also download the document from EPA's Web site at http://www.epa.gov/waterscience/nutrient.html, or from the docket.

II. Today's Notice

A. What Are Nutrients and Why Are We Concerned About Them?

Nutrients, or more specifically, nitrogen and phosphorus, are found in nature. They are also found in water as a result of anthropogenic sources including runoff from fertilized agriculture or residential grounds, municipal wastewater treatment plants, animal farming practices, and for nitrogen, from atmospheric deposition. Human activities can increase runoff from the land surface and increase the input of nutrients into surface waters, including wetlands.

The addition of plant nutrients stimulates the growth of algae and other plants which in turn stimulates fish and other organisms in the food web. When nutrients accumulate in excessive quantities, they can cause detrimental changes in water quality, in the aquatic life that depends on those waters, and in human uses of that water. This phenomenon is called eutrophication. Eutrophication of United States surface waters is a long standing-problem. Eutrophication due to excessive nutrients is one of the top five causes of waterbody impairment in the U.S., according to information provided by states on their CWA section 303(d) lists. Chronic symptoms of over-enrichment include low dissolved oxygen, fish kills, cloudy murky water, and depletion of desirable flora and fauna.

Within wetlands chronic symptoms of over-enrichment include low dissolved oxygen, fish kills, increased sediment accumulation, and species and abundance shifts of flora and fauna. The problem is national in scope, but varies in nature from one region of the country to another due to geographical variations in geology and soil types.

B. What Has EPA Done To Develop Criteria for Nutrients?

In 1998, EPA published a report entitled “National Strategy for the Development of Regional Nutrient Criteria.” This report outlined a framework for development of waterbody-specific technical guidance that can be used to assess nutrient status and develop region-specific numeric nutrient criteria. We have already released the companion Nutrient Criteria Technical Guidance Manuals for Rivers and Streams (2000), Lakes and Reservoirs (2000), and Estuarine and Coastal Marine Waters (2001). The document presented here is the wetland-specific technical guidance for developing numeric nutrient criteria.

C. What Is Included in the Draft Guidance?

The guidance explains how to consider water, vegetation and soil conditions to develop regionally-based numeric nutrient criteria for wetland systems. While the manual does not provide specific recommendations for nutrient criteria, it does give EPA's recommendations on defensible technical approaches for developing regional nutrient criteria. This document provides elements considered important to criteria development including Classification, Sampling Design and Criteria Development (setting a benchmark).

1. Classification of Wetlands

Classification strategies for nutrient criteria development can include physiographic regions, hydrogeomorphic class, water depth and duration, and/or vegetation type or zone. Choosing a specific classification scheme will depend on practical considerations, such as: Whether a classification scheme is available in mapped digital form or can be readily derived from existing map layers; whether a hydrogeomorphic or other classification scheme has been refined for a particular region and wetland type; and whether classification schemes are already in use for monitoring and assessment of other water body types in a state or region.

2. Sampling Design

Three sampling designs for new wetland monitoring programs are described including: stratified random sampling, targeted/tiered approach, and BACI (Before/After, Control/Impact). These approaches are designed to allow one to obtain a significant amount of information for statistical analyses with relatively minimal effort. Sampling efforts should be designed to collect information that will answer management questions in a way that will allow robust statistical analysis. In addition, site selection, characterization of reference sites or systems, and identification of appropriate index periods are all of particular concern when selecting an appropriate sampling design. Careful selection of sampling design will allow the best use of financial resources and will result in the collection of high quality data for evaluation of the wetland resources of a State or Tribe.

3. Criteria Development

Several methods can be used to develop numeric nutrient criteria for wetlands; they include but are not limited to three criteria development methods that are detailed in this document: (1) Identification of reference systems for each established wetland type and class based on either best professional judgment (BPJ) or percentile selections of data plotted as frequency distributions; (2) refinement of classification systems, use of models, and/or examination of system biological attributes to assess the relationships among nutrients, vegetation or algae, soil, and other variables; and (3) use of published nutrient and vegetation, algal, and soil relationships and values that may be used (or modified for use) as criteria. A weight of evidence approach with multiple attributes that combine one or more of the development approaches will produce criteria of greater scientific validity.

Recognizing relationships between nutrient input and wetland response is the first step in mitigating the effects of cultural eutrophication. Once relationships are established, nutrient criteria can be developed to manage nutrient pollution and protect wetlands from eutrophication.

Dated: December 7, 2006.
Ephraim King,
Director, Office of Science and Technology.

[FR Doc. E6-21287 Filed 12-13-06; 8:45 am]

BILLING CODE 6560-50-P